CONSUMER PRODUCT SAFETY COMMISSION

16 CFR Part 1251

[Docket No. CPSC-2011-0081]

Toys; Determination Regarding Heavy Elements Limits for Unfinished and Untreated Wood

AGENCY: U.S. Consumer Product Safety Commission.

ACTION: Withdrawal of direct final rule.

SUMMARY: Due to the receipt of significant adverse comments, the Consumer Product Safety Commission (“Commission” or “CPSC”) is withdrawing the July 17, 2015 direct final rule determining that unfinished and untreated trunk wood does not contain heavy elements that would exceed the limits specified in the Commission's toy standard, ASTM F963-11. The CPSC will address these comments in a separate final action based on the July 17, 2015 notice of proposed rulemaking (80 FR 42378) published in the same issue of the Federal Register. The CPSC will not institute a second comment period on this action.

DATES: The direct final rule published on July 17, 2015 (80 FR 42376) is withdrawn, effective September 10, 2015.

FOR FURTHER INFORMATION CONTACT: Randy Butturini, Project Manager, Office of Hazard Identification and Reduction, U.S. Consumer Product Safety Commission, 4330 East-West Hwy, Room 814, Bethesda, MD 20814; 301-504-7562: email; rbutturini@cpsc.gov.

SUPPLEMENTARY INFORMATION: On July 17, 2015, the CPSC published a direct final rule (80 FR 42376) determining that unfinished and untreated trunk wood does not contain heavy elements that would exceed the limits specified in the Commission's toy standard, ASTM F963-11. For more information on the ASTM wood determination, please see the July 17, 2015 direct final rule (80 FR 42376).

In the July 17, 2015 direct final rule, the CPSC stated that if CPSC received significant adverse comments by August 17, 2015, the rule would be withdrawn and not take effect. The CPSC received significant adverse comments. Therefore, the CPSC is withdrawing the direct final rule. The CPSC will address these comments in a separate final action based on the July 17, 2015 notice of proposed rulemaking (80 FR 42378) published in the same issue of the Federal Register. The CPSC will not institute a second comment period on this action.

Dated: September 4, 2015.
Todd A. Stevenson,
Secretary, Consumer Product Safety Commission.

[FR Doc. 2015-22829 Filed 9-9-15; 8:45 am]

BILLING CODE P